DEPARTMENT OF ENERGY

Federal Energy Regulatory Commission

[Docket No. IC21-4-000]

Commission Information Collection Activities (FERC-549B); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-549B (Gas Pipeline Rates: Annual Capacity Reports and Index of Customers), and is submitting the information collection to the Office of Management and Budget (OMB) for review. Any interested person may file comments directly with OMB and should address a copy of those comments to the Commission as explained below.

DATES: Comments on the collection of information are due February 4, 2021.

ADDRESSES: You may submit written comments on FERC-549B to OMB through www.reginfo.gov/public/do/PRAMain, Attention: Federal Energy Regulatory Commission Desk Officer. Please identify the OMB control number (1902-0169) in the subject line. Your comments should be sent within 30 days of publication of this notice in the Federal Register.

Please submit copies of your comments to the Commission (identified by Docket No. IC21-4-000) by any of the following methods:

• eFiling at Commission's Website: http://www.ferc.gov/docs-filing/efiling.asp.

• U.S. Postal Service Mail: Persons unable to file electronically may mail similar pleadings to the Federal Energy Regulatory Commission, 888 First Street NE, Washington, DC 20426.

• Effective July 1, 2020, delivery of filings other than by eFiling or the U.S. Postal Service should be delivered to Federal Energy Regulatory Commission, 12225 Wilkins Avenue, Rockville, Maryland 20852.

Instructions:

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION: On October 26, 2020, the Commission published a notice in the Federal Register inviting public comments for 60 days on this information collection (85 FR 67732). The public comment period expired on December 28, 2020. The Commission received no public comments in response. As described above, the Commission now invites public comments for a period of 30 days.

Title: FERC-549B (Gas Pipeline Rates: Capacity Reports and Index of Customers).

OMB Control No.: 1902-0169.

Type of Request: Three-year extension of the FERC-549B information collection requirements with no program changes.

Abstract: The requirements of FERC-549B consist of an Index of Customers (IOC) report and two capacity reports. This information collection is authorized by 15 U.S.C. 717, 717c, and 717d, and by 18 CFR 284.13.

Reports on Firm and Interruptible Services and on Capacity and Flow Information Under 284.13(b) and 284.13(d)(1)

On April 4, 1992, in Order No. 636 (RM91-11-000), the Commission established a capacity release mechanism under which shippers could release firm transportation and storage capacity on either a short- or long-term basis to other shippers wanting to obtain capacity. Pipelines posted available firm and interruptible capacity information on their electronic bulletin boards (EBBs) to inform potential shippers.

On August 3, 1992, in Order No. 636-A (RM91-11-002), the Commission determined through staff audits, that the efficiency of the capacity release mechanism could be enhanced by standardizing the content and format of capacity release information and the methods by which shippers accessed this information, which pipelines posted to their EBBs.

On March 29, 1995, through Order 577 (RM95-5-000), the Commission amended § 284.243(h) of its regulations to allow shippers the ability to release capacity without having to comply with the Commission's advance posting and bidding requirements.

On February 9, 2000, in Order No. 637 (RM98-10-000), to create greater substitution between different forms of capacity and to enhance competition across the pipeline grid, the Commission revised its capacity release regulations regarding scheduling, segmentation and flexible point rights, penalties, and reporting requirements. This resulted in more reliable capacity information availability and price data that shippers needed to make informed decisions in a competitive market as well as to improve shipper's and the Commission's ability to monitor the market for potential abuses.

Peak Day Annual Capacity Report Under 284.13(d)(2)

The regulation at 18 CFR 284.13(d)(2) requires an annual peak day capacity report of all interstate pipelines, including natural gas storage only companies. This report is generally a short report showing the peak day design capacity or the actual peak day capacity achieved, with a short explanation, if needed. The regulation provides that an interstate pipeline must make an annual filing by March 1 of each year showing the estimated peak day capacity of the pipeline's system, and the estimated storage capacity and maximum daily delivery capability of storage facilities under reasonably representative operating assumptions and the respective assignments of that capacity to the various firm services provided by the pipeline.

This annual report is publicly available, while other more specific interstate pipeline and storage capacity details are filed as Critical Energy Infrastructure Information, such as the Annual System Flow Diagram (FERC-567), which is not publicly available.

Index of Customers Under 284.13(c)

In Order 581, issued September 28, 1995 (Docket No. RM95-4-000), the Commission established the IOC quarterly information requirement. This order required the reporting of five data elements in the IOC filing: The customer name, the rate schedule under which service is rendered, the contract effective date, the contract termination date, and the maximum daily contract quantity, for either transportation or storage service, as appropriate.

In a notice issued separately from Order 581 in Docket No. RM95-4-000, issued February 29, 1996, the Commission, through technical conferences with industry, determined that the IOC data reported should be in tab delimited format on diskette and in a format prescribed in Appendix A of the rulemaking. In a departure from past practice, a three-digit code, instead of a six-digit code, was established to identify the respondent.

In Order 637, issued February 9, 2000 (Docket Nos. RM98-10-000 and RM98-12-000), the Commission required the filing of: The receipt and delivery points held under contract and the zones or segments in which the capacity is held, the common transaction point codes, the contract number, the shipper identification number, an indication of whether the contract includes negotiated rates, the names of any agents or asset managers that control capacity in a pipeline rate zone, and any affiliate relationship between the pipeline and the holder of capacity. It was stated in the order that the changes to the Commission's reporting requirements would enhance the reliability of information about capacity availability and price that shippers need to make informed decisions in a competitive market as well as improve shippers' and the Commission's ability to monitor marketplace behavior to detect and remedy anti-competitive behavior. Order 637 required a pipeline to post the IOC data quarterly on its website instead of on the outdated EBBs.

Types of Respondents: Interstate pipelines subject to FERC regulation under the Natural Gas Act, and those entities defined as Hinshaw Pipelines under the Natural Gas Policy Act.

Estimate of Annual Burden: The Commission estimates the annual public reporting burden ¹ for the information collection as shown in the following table:

¹ The Commission defines burden as the total time, effort, or financial resources expended by persons to generate, maintain, retain, or disclose or provide information to or for a Federal agency. For further explanation of what is included in the information collection burden, reference 5 CFR 1320.3.

² The current average cost for one FERC full-time equivalent ($83.00 per hour for wages plus benefits) is used as a proxy for industry's hourly cost.

FERC-54B9B (Gas Pipeline Rates: Capacity Reports and Index of Customers)
Types of responses | Average annual number of respondents | Average annual number of responses per respondent | Average annual total number of responses | Average burden & cost per response ² | Total annual burden hours & total annual cost | Cost per respondent ($)
A. | B | C | D (Col. B × Col. C) | E | F (Col. D × Col. E) | G (Col. E ÷ Col.)
Capacity Reports under 284.13(b) & 284.13(d)(1) | 168 | 6 | 1,008 | 145 hrs.; $83,664 | 146,160 hrs.; $12,131,280 | $83,664
Index of Customers under 18 CFR 284.13(c) | 168 | 4 | 672 | 3 hrs.; $249 | 2,016 hrs.; $167,328 | 996
Peak Day Annual Capacity Report under 18 CFR 284.13(d)(2) | 168 | 1 | 168 | 10 hrs.; $830 | 1,680 hrs.; $139,440 | 830
Totals |  |  | 1,848 |  | 149,856 hrs.; $12,433,048 | 74,036

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: December 29, 2020.
Nathaniel J. Davis, Sr.,
Deputy Secretary.

[FR Doc. 2020-29167 Filed 1-4-21; 8:45 am]

BILLING CODE 6717-01-P